DEPARTMENT OF VETERANS AFFAIRS

Solicitation of Nominations for Appointment to the Health Services Research and Development Scientific Merit Review Board Subcommittees

AGENCY: Department of Veterans Affairs.

ACTION: Notice of solicitation for nominations.

SUMMARY: The Department of Veteran Affairs (VA) Health Services Research and Development (HSR&D) is committed to having a diverse and inclusive membership in its Scientific Merit Review Board (SMRB) subcommittees. It is seeking nominations for qualified candidates who promote racial and ethnic diversity, as well as sex, geographic, religious, disability/mobility, and prior military service diversity in membership.

DATES: Nominations for membership on the subcommittees must be received by August 31, 2023, no later than 4:00 p.m., eastern standard time. Submission of an application does not guarantee selection.

ADDRESSES: All nomination packages should be sent to the HSRD Scientific Review mailbox at: vhacoscirev@va.gov.

SUPPLEMENTARY INFORMATION: In carrying out the duties set forth, the Board members and its subcommittees will:

(1) Conduct scientific merit peer review of applications submitted by VA investigators to HSRD for funding consideration,

(2) Prepare written critiques of scientific and technical merit of assigned applications, participate in a panel discussion of applications, and score all applications presented to the subcommittees to provide group consensus for consideration by the HSRD Director and the Principal Investigator.

Authority: The Board and its subcommittees were established in accordance with 38 U.S.C. 545 and operates under the provisions of the Federal Advisory Committee Act, as amended, 5. U.S.C. ch. 10. In accordance with 38 U.S.C. 545, the Board and subcommittees provide a fair and equitable selection of the most meritorious research projects for support by VA research funds and to offer advice for research program officials on program priorities and policies. The ultimate objective of the Board is to ensure the high quality and mission relevance of VA's legislatively mandated Health Services Research and Development Program.

Membership Composition: The Board is composed of members having training and expertise in a variety of scientific, technical and medical disciplines. The Board shall represent the required technical skills along with diversity in race/ethnicity, gender, religion, disability, geographical background and Veterans of diverse eras and branches of service when possible. Members will serve 2 to 4-year staggered appointments. A copy of the Committee's most recent charter and a list of the current membership can be found at www.va.gov/ADVISORY/.

The Subcommittee meets at least two times annually. In accordance with Federal Travel Regulation, VA will cover travel expenses—to include per diem—for all members of the Subcommittee, for any travel associated with official Subcommittee duties. Subcommittees may select to convene virtually, hybrid, or in-person.

Non-VA board members also may be authorized to receive a stipend for their services. In accordance with recently revised guidance regarding the ban on lobbyists serving as members of advisory boards and commissions, federally registered lobbyists are prohibited from serving on Federal advisory committees in an individual capacity. Additional information regarding this issue can be found at Federal Register:: Revised Guidance on Appointment of Lobbyists to Federal Advisory Committees, Boards, and Commissions.

Eligibility for Nomination Submission: Interested individuals must be a U.S. citizen and hold an M.D., Ph.D., or equivalent doctoral degree.

Preferences are for candidates who:

• Promote racial and ethnic diversity, as well as sex, geographic, disability/mobility, and prior military service diversity in membership.

• Have previous federal research funding resulting in professional publications.

HSRD is looking for individuals with health services related expertise in the following areas that correspond with some of our Subcommittees:

(1) Health care and delivery to include medical care; medical/surgical management; provider preferences and behaviors; provider burnout; diagnosis; prognosis; best practices; guidelines; quality and safety of healthcare; COVID disruption in patient care; chronic pain management; opioid use and management; pharmacology; and pharmacotherapeutics.

(2) Patient preferences, perceptions, and behaviors (including engagement and self-management); personal, sociodemographic, rural health, and cultural factors affecting health and care (patient/population/provider/community); complementary, alternative or integrative health; rural health, patient decision-making; focused patient-centered health care improvements and innovations; whole health, patient-provider interactions and communication; populations with disparities in health (rural, minorities, LGBTQIA+); and health disparities related to COVID disruption in patients care.

(3) Research in informatics and health information technology (HIT) tools and systems to enhance effectiveness, efficiency, and quality of VHA care, including impact of new information technology on patient experience, clinical analysis of big data to generate new evidence and scientific discovery (MVP data; genomics data, phenotypic data; emerging health data); development, testing and evaluation of novel and innovative digital HIT tools, emerging health data standards, EHR Modernization and research methods.

(4) Research on assessment, treatment, and prevention of mental health conditions (such as anxiety, depression, serious mental illness, and PTSD) and behavioral health disorders (such as substance use disorder and addictive disorders); suicide and suicide ideation; mental health—primary care integration (MH-PCI); measurement-based care; access to mental health care; and COVID disruption of mental health care.

(5) Research on (1) health systems and (2) women's health. This includes research on: organizational models affecting delivery of care across systems (different care settings or healthcare systems), best practices in implementation of health care interventions and improvements, methods to improve the efficiency and quality of care for Veterans, system efficiency and redesign, cost efficiencies, resource optimization, COVID system wide disruption in care, access to care; management and human factors affecting care, and improving care delivery across the lifespan for women Veterans.

(6) Research focused on two broad areas: (1) Rehabilitation and functional outcomes, including activity, mobility, and exercise; (2) Aging and care settings (e.g., home, long-term care. frailty) as well as supportive services, caregiving, palliative, and end-of-life care, and COVID disruption in aging patients' care.

(7) Partnered initiatives/centers focused on addressing VA priorities, supporting VHA's transformation to a Learning Health System, and moving the needle on quality of care for Veterans by leveraging evidence-based implementation, evaluation, and/or quality improvement methods and partnering closely with health system leaders, managers, and frontline staff to support the uptake of effective programs, policies, and practices across VHA.

Requirements for Nomination Submission: Subcommittee packages must be typed (12-point font) and include:

(1) a cover letter from the nominee summarizing the individual's interest in serving on a subcommittee and contributions she/he/they can make to the work of the committee; any relevant Veterans service activities she/he/they are currently engaged. To promote inclusion and demographic balance of membership, please include as much information related to your race, national origin, disability status, or any other factors that may give you a diverse perspective on Veterans matters;

(2) a current Curriculum Vitae (CV) that shows all relevant professional and/or work experience;

(3) The nominee's contact information, including name, mailing address, telephone numbers, and email address;

(4) a statement confirming that the nominee is not a federally registered lobbyist.

Packages will be reviewed by scientific review staff and individuals selected for appointment to a Subcommittee will be notified via email.

The Department makes every effort to ensure that the membership of its advisory committees is fairly balanced, in terms of points of view represented. Consideration is given to nominees' potential to address the Board and subcommittee's scientific needs (see above) and demographic needs (regional representation, race/ethnicity representation, professional expertise, gender, and Veteran status, etc.). In addition, the composition of each Subcommittee may vary based on the review cycle to mitigate potential or perceived conflicts of interest and ensure the subcommittee's expertise aligns with the applications under review.

Dated: July 17, 2023.
LaTonya L. Small,
Federal Advisory Committee Management Officer.

[FR Doc. 2023-15464 Filed 7-20-23; 8:45 am]

BILLING CODE P